DEPARTMENT OF TRANSPORTATION

Federal Aviation Administration

[Docket No. FAA-2025-0442]

Agency Information Collection Activities: Requests for Comments; Clearance of Renewed Approval of Information Collection: Financial Responsibility for Licensed Launch Activities

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 25, 2025. The collection determines whether licensees have complied with financial responsibility requirements for maximum probable loss determination (MPL) analysis as set forth in FAA regulations. The information to be collected will be used to cover claims by a third party for bodily injury or property damage, and the United States, its agencies, and its contractors and subcontractors for covered property damage or loss, resulting from a Commercial space transportation permitted or licensed activity and/or is necessary because it fulfills a statutory requirement.

DATES: Written comments should be submitted by January 2, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: by email at: Charles Huet, 800 Independence Avenue SW, Room 331, Washington, DC 20591.

By fax: 202-267-5463.

Charles.huet@faa.gov; phone: 202-267-7427.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0601.

Title: Financial Responsibility for Licensed Launch Activities.

Form Numbers: There are no FAA forms associated with this collection.

Type of Review: Renewal of an information collection.

Background: The Federal Register Notice with a 60-day comment period soliciting comments on the following collection of information was published on March 25, 2025 (90 FR 13653-13654).

This collection is applicable to operators requesting to conduct commercial launch operations as prescribed in 14 CFR parts 401, et al., Commercial Space Transportation Licensing Regulation. A commercial space launch services provider must complete the Launch Operators License, Launch-Specific License or Experimental Permit to gain authorization for conducting commercial launch operations. The information will be collected per 14 CFR part 440 Appendix A. A permit or license applicant is required to provide the FAA information to conduct maximum probable loss determination. Also, it is a mandatory requirement that all commercial permitted and licensed launch applicants obtain financial coverage for claims by a third party for bodily injury or property damage. FAA is responsible for determining the amount of financial responsibility required using maximum probable loss determination. The following is a summary of the information required to conduct an MPL:

1. Mission description including: launch trajectory, orbital inclination; and orbit altitudes (apogee and perigee).

2. Flight sequence.

3. Staging events and the time for each event.

4. Impact locations.

5. Identification of the launch site facility, including the launch complex on the site, planned date of launch, and launch windows.

6. Launch vehicle descriptions including: general description of the launch vehicle and its stages, including dimensions; description of major systems, including safety systems.

Description of rocket motors and type of fuel used; and identification of all propellants to be used and their hazard classification under the hazardous materials.

7. Payload.

8. Flight safety system.

Respondents: Approximately 10 applicants.

Frequency: Information is collected on occasion.

Estimated Average Burden per Response: 100 hours.

Estimated Total Annual Burden: 1,000 hours.

James A. Hatt,
Space Policy Division Manager, Commercial Space Transportation, Federal Aviation Administration.

[FR Doc. 2025-21801 Filed 12-2-25; 8:45 am]

BILLING CODE 4910-13-P